DEPARTMENT OF JUSTICE

Notice of Lodging of Consent Decree Under the Clean Water Act

Under 28 CFR § 50.7, notice is hereby given that on April 27, 2004, a proposed Consent Decree in United States and State of Louisiana v. City of Monroe, Civil Action No. 04-0944 was lodged with the United States District Court for the Western District of Louisiana.

In this action the United States, and its co-plaintiff the State of Louisiana, sought injunctive relief and a civil penalty to address sanitary sewer overflows and other violations of the Clean Water Act and the City of Monroe's National Pollutant Discharge Elimination System (“NPDES”) permit. Under the Consent Decree, the City will (i) carry out specific projects listed in the Consent Decree to upgrade the City's wastewater treatment plant and sewage collection system, (ii) identify and make other necessary upgrades to City's sewer collection system, (iii) prepare and implement a sewage collection system preventive maintenance plan, and (iv) prepare and implement a sewage treatment plant preventive maintenance plan. The City will also pay a civil penalty of $235,000 ($164,500 to the United States and $70,500 to the State) and, as a supplemental environmental project, spend at least $500,000 maintaining for five years a public waste disposal facility at a boat dock at Forsythe Point in Monroe, Louisiana.

The Department of Justice will receive for a period of thirty (30) days from the date of this publication comments relating to the Consent Decree. Comments should be addressed to the Assistant Attorney General, Environment and Natural Resources Division, P.O. Box 7611, U.S. Department of Justice, Washington, DC 20044-7611, and should refer to United States v. City of Monroe, D.J. Ref. No. 90-5-1-1-06820.

The Consent Decree may be exmained during the public comment period on the following Department of Justice Web site: http://www.usdoi.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.25 (25 cents per page reproduction cost) payable to the U.S. Treasury.

Thomas A. Mariani Jr.,
Assistant Section Chief, Environmental Enforcement Section, Environment and Natural Resources Divison.

[FR Doc. 04-10841 Filed 5-12-04; 8:45 am]

BILLING CODE 4410-15-M